DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site (http://www.treasury.gov/ofac).

Notice of OFAC Actions

On November 9, 2017, OFAC determined that the property and interests in property subject to U.S. jurisdiction of the following persons are blocked under the relevant sanctions authority listed below.

1. FERNANDEZ MELENDEZ, Manuel Angel (Latin: FERNÁNDEZ MELÉNDEZ, Manuel Ángel), Miranda, Venezuela; DOB 11 Jun 1966; citizen Venezuela; Gender Male; Cedula No. 6873122 (Venezuela) (individual) [VENEZUELA]. Designated pursuant to section 1(a)(ii)(C) of E.O. 13692 for being a current or former official of the Government of Venezuela.

2. HERNANDEZ DE HERNANDEZ, Socorro Elizabeth (Latin: HERNÁNDEZ DE HERNÁNDEZ, Socorro Elizabeth), Caracas, Capital District, Venezuela; DOB 11 Mar 1952; citizen Venezuela; Gender Female; Cedula No. 3977396 (Venezuela); Rector of Venezuela's National Electoral Council; Member of Venezuela's National Electoral Board (individual) [VENEZUELA]. Designated pursuant to section 1(a)(ii)(C) of E.O. 13692 for being a current or former official of the Government of Venezuela.

3. HIDROBO AMOROSO, Elvis Eduardo, Aragua, Venezuela; DOB 04 Aug 1963; POB Caracas, Venezuela; citizen Venezuela; Gender Male; Cedula No. 7659695 (Venezuela); Second Vice President of Venezuela's Constituent Assembly (individual) [VENEZUELA]. Designated pursuant to section 1(a)(ii)(C) of E.O. 13692 for being a current or former official of the Government of Venezuela.

4. MARQUEZ MONSALVE, Jorge Elieser, Caracas, District Capital, Venezuela; DOB 20 Feb 1971; citizen Venezuela; Gender Male; Cedula No. 8714253 (Venezuela); Venezuela's Minister of the Office of the Presidency (individual) [VENEZUELA]. Designated pursuant to section 1(a)(ii)(C) of E.O. 13692 for being a current or former official of the Government of Venezuela.

5. OBLITAS RUZZA, Sandra, Caracas, Capital District, Venezuela; DOB 07 Jun 1969; POB Ecuador; citizen Venezuela; Gender Female; Cedula No. 10517860 (Venezuela); Vice President of Venezuela's National Electoral Council; Rector of Venezuela's National Electoral Council; President of Venezuela's Civil and Electoral Registry Commission (individual) [VENEZUELA]. Designated pursuant to section 1(a)(ii)(C) of E.O. 13692 for being a current or former official of the Government of Venezuela.

6. OSORIO ZAMBRANO, Carlos Alberto, Miranda, Venezuela; DOB 10 Oct 1966; citizen Venezuela; Gender Male; Cedula No. 6397281 (Venezuela); President of the Superior Organ of Venezuela's Transport Mission (individual) [VENEZUELA]. Designated pursuant to section 1(a)(ii)(C) of E.O. 13692 for being a current or former official of the Government of Venezuela.

7. QUINTERO CUEVAS, Carlos Enrique, Caracas, Capital District, Venezuela; DOB 16 Feb 1972; citizen Venezuela; Gender Male; Cedula No. 10719241 (Venezuela); Alternate Rector of Venezuela's National Electoral Council; Member of Venezuela's National Electoral Board (individual) [VENEZUELA]. Designated pursuant to section 1(a)(ii)(C) of E.O. 13692 for being a current or former official of the Government of Venezuela.

8. RODRIGUEZ DIAZ, Julian Isaias (Latin: RODRÍGUEZ DÍAZ, Julián Isaías), Miranda, Venezuela; DOB 16 Dec 1942; POB Guarico, Venezuela; citizen Venezuela; Gender Male; Cedula No. 2218534 (Venezuela); Venezuelan Ambassador to Italy (individual) [VENEZUELA]. Designated pursuant to section 1(a)(ii)(C) of E.O. 13692 for being a current or former official of the Government of Venezuela.

9. VILLEGAS POLJAK, Ernesto Emilio, Caracas, Capital District, Venezuela; DOB 29 Apr 1970; citizen Venezuela; Gender Male; Cedula No. 9487963 (Venezuela); Venezuela's Minister of Culture (individual) [VENEZUELA]. Designated pursuant to section 1(a)(ii)(C) of E.O. 13692 for being a current or former official of the Government of Venezuela.

Additionally, on November 9, 2017, OFAC determined that the property and interests in property subject to U.S. jurisdiction of the following person are blocked pursuant to section 1(a)(ii)(C) of E.O. 13692 for being a current or former official of the Government of Venezuela. Accordingly, OFAC updated the SDN List for the following person, whose property and interests in property continue to be blocked under the Foreign Narcotics Kingpin Designation Act.

BERNAL ROSALES, Freddy Alirio; DOB 16 Jun 1962; POB San Cristobal, Tachira State, Venezuela; Cedula No. 5665018 (Venezuela); Passport B0500324 (Venezuela); Congressman, United Socialist Party of Venezuela (individual) [SDNTK].

The listing for this person now appears as follows:

BERNAL ROSALES, Freddy Alirio; Caracas, Capital District, Venezuela; DOB 16 Jun 1962; POB San Cristobal, Tachira State, Venezuela; Gender Male; Cedula No. 5665018 (Venezuela); Passport B0500324 (Venezuela); Venezuela's Minister of Urban Agriculture (individual) [SDNTK] [VENEZUELA].

Dated: November 14, 2017.
John E. Smith,
Director, Office of Foreign Assets Control.

[FR Doc. 2017-24954 Filed 11-16-17; 8:45 am]

BILLING CODE 4810-AL-P